DEPARTMENT OF AGRICULTURE

Agriculture Marketing Service

[TM-01-02]

Notice of Organic Certification Cost Share Program

AGENCY: Agricultural Marketing Services, USDA.

ACTION: Notice.

SUMMARY: This Notice invites eligible States to submit a Standard Form 424, Application for Federal Assistance, and to enter into a Cooperative Agreement with the Agricultural Marketing Service for the Allocation of Organic Certification Cost-Share Funds. The Agricultural Marketing Service (AMS) has allocated $1.0 million for an organic certification cost-share program in Fiscal Year 2001. Funds will be available under this program to 15 designated States to assist organic crop and livestock producers in transitioning into the new National Organic Program. Eligible States interested in obtaining cost-share funds for their organic producers will have to submit an Application for Federal Assistance, and will have to enter into a cooperative agreement with AMS for the allocation of such funds.

DATES: Completed applications for federal assistance along with signed cooperative agreements must be received by July 9, 2001 in order to participate in the program.

ADDRESSES: Applications for federal assistance and cooperative agreements shall be requested from and submitted to: Bob Pooler, Marketing Specialist, National Organic Program, USDA/AMS/TMP/NOP, PO Box 96456, Room 2510-South, Ag Stop 0268, Washington, DC 20090-6456; Telephone: (202) 690-3655; Fax: (202) 205-7808; e-mail: Bob.Pooler@usda.gov. Additional information may be found through the National Organic Program s homepage at http://www.ams.usda.gov/nop.

FOR FURTHER INFORMATION CONTACT: Bob Pooler, Marketing Specialist, National Organic Program, USDA/AMS/TM/NOP, PO Box 96456, Room 2510-South, Ag Stop 0268, Washington, DC, 20090-6456; Telephone: (202) 690-3655; Fax: (202) 205-7808; e-mail: Bob.Pooler@usda.gov.

SUPPLEMENTARY INFORMATION: The Organic Certification Cost-Share Program is part of the Agricultural Management Assistance Program authorized under the Agricultural Risk Protection Act of 2000 (ARPR), Public Law 106-224, section 524, 114 Stat. 387 (2000), 7 U.S.C. 1524. Under the applicable ARPR provisions, the Department is authorized to provide cost share assistance to producers in not more than 15 states which have a historically low participation rate in the Federal crop insurance program. One of the purposes of the ARPR's cost-share program is to assist producers in transitioning to the new National Organic Program authorized under the Organic Foods Production Act of 1990, 7 U.S.C. 6501-6522.

The Department has determined that the following States are eligible to participate in the program: Connecticut, Delaware, Maine, Maryland, Massachusetts, Nevada, New Hampshire, New Jersey, New York, Pennsylvania, Rhode Island, Utah, Vermont, West Virginia, or Wyoming.

To participate in the program, eligible States must complete a Standard Form 424, Application for Federal Assistance, and enter into a written cooperative agreement with AMS. The program will provide cost-share assistance, through participating States, to organic crop and livestock producers who have been certified by a certifying agent as of December 21, 2000. The Department has determined that payments will be limited to 70 percent of an individual producer's certification costs up to a maximum of $500.00.

Authority: Pub. L. 106-224, section 524, 114 Stat. 387 (2000), 7 U.S.C. 1524.

Dated: May 17, 2001.
Kenneth C. Clayton,
Acting Administrator.

[FR Doc. 01-12937 Filed 5-22-01; 8:45 am]

BILLING CODE 3410-02-P